ENVIRONMENTAL PROTECTION AGENCY

40 CFR Part 271

[FRL-6923-6]

Oklahoma: Final Authorization of State Hazardous Waste Management Program Revisions

AGENCY: Environmental Protection Agency (EPA).

ACTION: Immediate final rule.

SUMMARY: The State of Oklahoma has applied for Final authorization of the changes to its Hazardous Waste Program under the Resource Conservation and Recovery Act (RCRA). The EPA has determined that these changes satisfy all requirements needed to qualify for Final authorization, and is authorizing the State's changes through this immediate final action. The EPA is publishing this rule to authorize the changes without a prior proposal because we believe this action is not controversial and do not expect comments that oppose it. Unless we get written comments which oppose this authorization during the comment period, the decision to authorize the Oklahoma Department of Environmental Quality‘s (ODEQ) changes to their hazardous waste program will take effect. If we get comments that oppose this action, we will publish a document in the Federal Register withdrawing this rule before it takes effect and a separate document in the proposed rules section of this Federal Register will serve as a proposal to authorize the changes.

DATES: This immediate final rule is effective on March 5, 2001 unless EPA receives adverse written comments by February 1, 2001. If EPA receives such comments, it will publish a timely withdrawal of this immediate final rule in the Federal Register and inform the public that this authorization will not take effect.

ADDRESSES: Written comments, referring to Docket Number OK-00-3, should be sent to Alima Patterson Region 6 Regional Authorization Coordinator, Grants and Authorization Section (6PD-G), Multimedia Planning and Permitting Division, EPA Region 6, 1445 Ross Avenue, Dallas, Texas 75202-2733. Copies of Oklahoma program revision application and the materials which EPA used in evaluating the revision are available for inspection and copying from 8:30 a.m. to 4:00 p.m. Monday through Friday at the following addresses: Oklahoma Department of Environmental Quality, 707 North Robinson, Oklahoma City, Oklahoma 73101-1677, (405) 702-7180 and EPA Region 6, 1445 Ross Avenue, Dallas, Texas 75202-2733, (214) 665-6444.

FOR FURTHER INFORMATION CONTACT: Alima Patterson (214) 665-8533.

SUPPLEMENTARY INFORMATION:

A. Why Are Revisions to State Programs Necessary?

States that receive final authorization from EPA under RCRA Section 3006(b), 42 U.S.C. 6926(b), must maintain a hazardous waste program that is equivalent to, consistent with, and no less stringent than the Federal Hazardous Waste Program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260-266, 268, 270, 273, and 279.

B. What Is the Effect of Today's Authorization Decision?

The effect of this decision is that a facility in Oklahoma subject to RCRA will have to comply with the authorized State requirements (in portions of RCRA Cluster VIII and RCRA Cluster IX listed in this document) instead of the equivalent federal requirements in order to comply with RCRA. Oklahoma has enforcement responsibilities under its state hazardous waste program for violations of such program, but EPA retains its authority under RCRA sections 3007, 3008, 3013, and 7003, which include, among others, authority to: (1) Do inspections, and require monitoring, tests, analyses or reports, (2) enforce RCRA requirements and suspend or revoke permits, and (3) take enforcement actions regardless of whether the State has taken its own actions. This action does not impose additional requirements on the regulated community because the regulations for which Oklahoma is being authorized by today's action are already effective, and are not changed by today's action.

C. What Is the History of Oklahoma's Final Authorization and Its Revisions?

Oklahoma initially received Final Authorization on January 10, 1985, (49 FR 50362) to implement its base hazardous waste management program. We authorized the following revisions: Oklahoma received authorization for revisions to its program on June 18, 1990 (55 FR 14280), effective November 27, 1990; (55 FR 39274) effective June 3, 1991; (56 FR 13411) effective November 19, 1991; (56 FR 47675) effective December 21, 1994; (59 FR 51116-51122) effective April 27, 1995; (60 FR 2699-2702) effective October 9, 1996; (61 FR 52884-52886), Technical Correction effective March 14, 1997 (62 FR 12100); effective February 8, 1999 (63 FR 67800-67802); (65 FR 16528) effective April 28, 2000 and effective July 10, 2000 (65 FR 29981-29985). The authorized Oklahoma RCRA program was incorporated by reference into the CFR effective December 13, 1993 (58 FR 52679-52682); and (63 FR 23673-23678) effective July 14, 1998. On August 3, 2000, Oklahoma submitted a final complete program revision application, seeking authorization of its program revision in accordance with 40 CFR 271.21.

Oklahoma statutes provide authority for a single State agency, the Oklahoma Department of Environmental Quality (ODEQ,) to administer the provisions of the State Hazardous Waste Management Program. These statutes are the Oklahoma Department of Environmental Quality Act, 27 O.S. Supplement (Supp) 1999 §§ 1-1-101 et seq. General provisions of the Oklahoma Environmental Quality Code which may affect the Hazardous Waste Program are 27A O.S. Supplement (Supp). 1999 §§ 2-1-101 through 2-3-507; and the Oklahoma Hazardous Waste Management Act (OHWMA), 27A O.S. Supp. 1999 §§ 2-7-101 et seq. No amendments were made to the above statutory authorities during the 2000 legislative session which will substantially affect the State Hazardous Waste Management Program.

The Oklahoma Board adopted RCRA Cluster IX rules on February 25, 2000, as permanent rules. These permanent rules became effective on June 12, 2000, to implement the State hazardous waste program, which are codified in OAC 252:205 et seq.

These rules include provisions, found at OAC 252:205-3-1 through 252:205-3-6, to incorporate by reference, in accordance with the Guidelines For State Adoption of Federal Regulations By Reference, the following EPA Hazardous Waste Management Regulations as amended through July 1, 1999. The provisions of Title 40 CFR part 124 which are required by 40 CFR part 271.14 as well as parts 124.19 (a) through (c) and (e), 124.31, and 124.32 and 124.33; 40 CFR parts 260-266, with the exception of 40 CFR parts 260.20 through 260.22, 264.1(f), 264.149, 264.150, 264.301(1), the Appendix VI to part 264, 265.1(c)(4), and 265.149 and 265.150; 40 CFR part 268 except 268.5, 268.5, 268.6, 268.10, 268.11, 268.12, 268.13, 268.42(b), 268.44 (a), through (g) and 268.44 (m) through (p); 40 CFR part 270 except 270.14(b)(18); 40 CFR part 273; and 40 CFR part 279). Additionally, the rules adopt the new or superseding amendments to 40 CFR found in 64 FR 36465-36490 published July 6, 1999, dealing with hazardous waste lamps as a universal waste.

The ODEQ remains the official agency of the State of Oklahoma, as designated by 27A O.S. Supp. 1999 Section 2-7-105(13) to cooperate with Federal agencies for purposes of hazardous waste regulation. The OHWMA delegates authority to the ODEQ to administer the State hazardous waste program, including the statutory and regulatory provisions necessary to administer the RCRA Cluster IX provisions. Included in this Federal Register notice also are portions of RCRA Cluster VIII rules (Checklists 166, 167 A, 167 B, 167 C & C.1, and 167 E) that were not authorized when the State was granted authorization for RCRA Cluster VIII effective July 10, 2000. However, the RCRA Cluster VIII regulations were effective in the State on June 11, 1999. The DEQ is the sole State agency responsible for administering the provisions of the OHWMA.

At the present, the Oklahoma Corporation Commission (OCC) regulates certain aspects of the oil and gas production and transportation industry in Oklahoma, including certain waste generated by pipelines, bulk fuel sales terminals and certain tank farms. The ODEQ and the OCC have in place a ODEQ/OCC Jurisdictional Guidance Document that reflects the current state of affairs between the two agencies. The current ODEQ/OCC jurisdictional Guidance Document was amended and signed on January 27, 1999. The ODEQ exclusively hazardous regulates waste in Oklahoma (excluding Indian lands) and OCC does not regulate hazardous waste in Oklahoma.

The revisions of the State program to include administration of the provisions of portions of RCRA Cluster VIII and RCRA Cluster IX will not require a change in responsibility for administration of the State hazardous waste program.

D. What Changes Are We Approving With Today's Action?

On August 3, 2000, the State of Oklahoma submitted a final complete program application, seeking authorization of their changes in accordance with 40 CFR 271.21. We now make an immediate Final decision, subject to receipt of written comments that oppose this action, that the State of Oklahoma's hazardous waste program revision satisfies all of the requirements necessary to qualify for Final authorization. The State of Oklahoma revisions consist of regulations which specifically govern Federal Hazardous Waste promulgated from July 1, 1998 to June 30, 1999 (RCRA Cluster IX) and also portion of RCRA Cluster VIII promulgated from July 1, 1997 to June 30, 1998. Oklahoma requirements are included in a chart with this document.

Federal citation | State analog
1. Recycled Used Oil Management Standards; Technical Correction and Clarification, [63 FR 24963] May 6, 1998. (Checklist 166) | 27A O.S. Supp. 1998 § 2-2-104 Added by Laws 1994, effective July 1, 1994, Annotated Oklahoma Statutes 27 A. O.S. Supp. 1998 § 2-2-106 Amended by Laws 1993, effective July 1, 1993, Rules 252:205:3-1 through 252:205-3-7 permanent effective date June 11, 1999.
2. Land Disposal Restrictions Phase IV—Treatment Standards for Metal Wastes and Mineral Processing Wastes, [63 FR 28556] May 26, 1998. (Checklist 167 A) | 27A O.S. Supp, 1998 § 2-2-104 Added by Laws 1994, effective July 1, 1994; 27A O.S. Supp, 1998 § 2-7-106 Amended by Laws 1993, effective July 1, 1993; Rules 252:205-3-1 through 252:205-3-7 permanent effective date June 11, 1999.
3. Land Disposal Restrictions Phase IV—Hazardous Soils Treatment Standards and Exclusions, [63 FR 28556] May 26, 1998. (Checklist 167 B) | 27A O.S. Supp, 1998 § 2-2-104 Added by Laws, 1994, effective July 1, 1994; 27A O.S. Supp, 1998 § 2-7-106 Amended by Laws 1993, effective July 1, 1993; Rules 252:205-3-1 through 252:205-3-7 permanent effective date June 11, 1999.
4. Land Disposal Restrictions Phase IV—Corrections, [63 FR 28556] May 26, 1998. (Checklist 167 C and 167.C.1) | 27A O.S. Supp. 1998 § 2-2-104 Added by Laws 1994, effective July 1, 1994; 27A O.S. Supp, 1998 § 2-7-106 Amended by Laws 1993, effective July 1, 1993; Rules 252-205-3-1 through 252:205-3-7 permanent effective date June 11, 1999.
5. Bevill Exclusion Revisions and Clarification, [63 FR 28556] May 26, 1998. (Checklist 167 E) | 27A O.S. Supp. 1998 § 2-2-104 Added by Laws 1994, effective July 1, 1994; 27A O.S. Supp, 1998 § 2-7-106 Amended by Laws 1993, effective July 1, 1993; Rules 252:205-3-1 through 252:205-3-7 permanent effective date June 11, 1999.
6. Petroleum Refining Waste Process, [63 FR 42110] August 6, 1998 (Checklist 169) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
7. Petroleum Refining Waste Process, [63 FR 54356] October 9, 1998. (Checklist 169.1) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
8. Land Disposal Restrictions—Phase IV, [63 FR 46332] August 31, 1998. (Checklist 170) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
9. Emergency Revisions of LDR Treatment Standards, [63 FR 47409] September 4, 1998. (Checklist 171) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
10. Emergency Revisions of LDR Treatment Standards, [63 FR 48124] September 9, 1998. (Checklist 172) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
11. Land Disposal Restrictions Treatment Standards (Spent Potliners), [63 FR 51254] September 24, 1998. (Checklist 173) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
12. Standards Applicable to Owners and Operators of Closed/Closing Facilities, [63 FR 56710] October 22, 1998. (Checklist 174) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
13. Hazardous Remediation Waste Management Requirements (HWIR-Media), [63 FR 65874] November 30, 1998. (Checklist 175) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
14. Universal Waste Rule; Technical Amendment (Conditionally Optional), [63 FR 71225] December 24, 1998. (Checklist 176) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
15. Organic Air Emission Standards, [64 FR 3381] January 21, 1999. (Checklist 177) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
16. Petroleum Refining Process Wastes, [64 FR 6806] February 11, 1999. (Checklist 178) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
17. Land Disposal Restrictions Phase IV—Technical Corrections and Clarifications to Treatment Standards, [64 FR 25408] May 11, 1999. (Checklist 179) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.
18. Test Procedures for the Analysis of Oil and Grease Non-Polar Material, [64 FR 26315] May 14, 1999. (Checklist 180) | 27A O.S. Supp. 1999 § 2-2-104 Added by Laws 1994, effective July 1, 1994; 27A O.S. Supp, 1999 § 2-7-106 Amended by Laws 1993, effective July 1, 1993; Rules 252:205-3-1 through 252:205-3-6 permanent effective date June 12, 2000.

E. What Is the Relationship Between the Resource Conservation and Recovery Act and the Hazardous Waste Combustor MACT? How Does This Effect Delegation of This Standard to ODEQ's Authorization?

In this authorization document, the State of Oklahoma is also seeking authorization for the Post-Closure Permit Requirement and Closure Process, (Checklist 174). On September 30, 1999, the EPA finalized the National Emission Standards for Hazardous Air Pollutants (NESHAP) for three categories waste combustors (HWCs): incinerators, cement kilns and light-weight aggregate kilns (64 FR 52828). The EPA promulgated this rule under joint authority of the Clean Air Act (AA) and (RCRA). Before this rule went into effect, the air emissions from these three types of HWCs was primarily regulated under the authority of RCRA (see 40 CFR parts 264, 265, 266, and 270). However, with the release of the final HWC NESHAP (see 40 CFR part 63 subpart EEE), the air emissions from these sources is now regulated under RCRA and the CAA. Even though both statutes give us the authority to regulate these emissions, we determined that having emissions standards and permitting requirements in both sets of implementing regulations would be duplicative. For this reason, using the authority provided by section 1006(b) of RCRA, we deferred the RCRA requirements for HWC emission controls to the CAA requirements of 40 CFR part 63 subpart EEE.

Therefore, with today's authorization of the State of Oklahoma for the RCRA provisions of the September 30, 1999 HWC NESHAP rule, the RCRA waste management standards for air emissions from these units will no longer apply after the facility has demonstrated compliance with 40 CFR part 63 subpart EEE. One notable exception concerns section 3005(c)(3) of RCRA, which requires that each RCRA permits contain the terms and conditions necessary to protect human health and the environment. Under this provision of RCRA, if a regulatory authority determines that more stringent conditions than the HWC NESHAP are necessary to protect human health and environment for a particular facility, then the regulatory authority may impose those conditions in the facility's RCRA permit. (See the HWC MACT rule preamble discussion on the interrelationship of the MACT rule with the RCRA Omibus provision and site specific risk assessment at (64 FR 52828, pages 52839-52843, September 30, 1999, and RCRA Site-Specific Risk Assessment Policy for Hazardous Waste Combustion Facilities dated June, 2000 for more information.

F. What Decisions Has EPA Made?

We conclude that Oklahoma's application for program revision meets all of the statutory and regulatory requirements established by RCRA. Therefore, we grant Oklahoma final authorization to operate its hazardous waste program with the changes described in the authorization application . Oklahoma has responsibility for permitting treatment, storage, and disposal facilities within its borders (except in Indian Country) and for carrying out the aspects of the RCRA program described in its revised program application, subject to the limitations of Solid Waste Amendments of 1984 (HSWA). New federal requirements and prohibitions imposed by Federal regulations that EPA promulgates under the authority of HSWA take effect in authorized States before they are authorized for the requirements. Thus, EPA will implement those requirements and prohibitions in Oklahoma, including issuing permits, until the State is granted authorization to do so.

G. How Do the Revised State Rules Differ From the Federal Rules?

In this authorization of the State of Oklahoma's program revisions for portions of RCRA Cluster VIII and RCRA Cluster IX, there are no provisions that are more stringent or broader in scope. Broader in scope requirements are not part of the authorized program and EPA can not enforce them.

H. Who Handles Permits After This Authorization Takes Effect?

The State of Oklahoma will issue permits for all the provisions for which it is authorized and will administer the permits it issues. The EPA will continue to administer any RCRA hazardous waste permits or portions of permits which we issued prior to the effective date of this authorization. We will not issue any more permits or new portions of permits for the provisions listed in that Table in this document after the effective date of this authorization. The EPA will continue to implement and issue permits for HSWA requirements for which Oklahoma is not yet authorized.

I. Why Wasn't There Not Proposed Rule Before Today's Notice?

The EPA did not publish a proposal before today's rule because we view this as a routine program change and do not expect comments that oppose this approval because we believe this action is not controversial. We are providing an opportunity for public comment now. In addition to this rule, in the proposed rules section of today's Federal Register we are publishing a separate document that proposes to authorize the State program changes.

J. Where Do I Send My Comments and When Are They Due?

You should send written comments to Alima Patterson, Regional Authorization Coordinator, Grants and Authorization Section (6PD-G), Multimedia Planning and Permitting Division, EPA Region 6, 1445 Ross Avenue, Dallas, Texas 75202-2733, (214) 665-8533. Please refer to Docket Number OK-00-3. We must receive your comments by February 1, 2001. You may not have an opportunity to comment again. If you want to comment on this action, you must do so at this time.

K. What Happens if EPA Receives Comments Opposing This Action?

If EPA receives comments that oppose this authorization, we will withdraw this rule by publishing a document in the Federal Register before the rule becomes effective. The EPA will base any further decision on the authorization of the State program changes on the proposal mentioned in the previous paragraph. We will then address all public comments in a later final rule. You may not have another opportunity to comment. If you want to comment on this authorization, you must do so at this time.

L. When Will This Approval Take Effect?

Unless EPA receives comments opposing this action, this final authorization approval will become effective without further notice on March 5, 2001.

M. Where Can I Review The State's Application?

You can review and copy the State of Oklahoma's application from 8:30 a.m. to 4 p.m. Monday through Friday at the following addresses: Oklahoma Department of Environmental Quality, 707 North Robinson, Oklahoma City, Oklahoma 73101-1677, (405) 702-7180 and EPA, Region 6 , 1445 Ross Avenue, Dallas, Texas 75202-2733, (214) 665-6444. For further information contact Alima Patterson, Regional Authorization Coordinator, Grants and Authorization Section (6PD-G), Multimedia Planning and Permitting Division, EPA Region 6, 1445 Ross Avenue, Dallas, Texas 75202-2733, (214) 665-8533.

N. Does Today's Action Affect Indian Country in Oklahoma?

Oklahoma is not authorized to carry out its Hazardous Waste Program in Indian Country within the State. This authority remains with EPA. Therefore, this action has no effect on Indian Country.

O. What Is Codification?

Codification is the process of placing the State's statutes and regulations that comprise the State's authorized hazardous waste program into the CFR. The EPA does this by referencing the authorized State rules in 40 CFR part 272. The EPA reserves the amendment of 40 CFR part 272, Subpart LL for this codification of Oklahoma's program changes until a later date.

Administrative Requirements

The Office of Management and Budget (OMB) has exempted this action from the requirements of Executive Order 12866 (58 FR 51735, October 4, 1993), and therefore this action is not subject to review by OMB. This action authorizes State requirement for the purpose of RCRA 3006 and impose no additional requirements beyond those imposed by State law. Accordingly, I certify that this action will not have a significant economic impact on a substantial number of small entities under the Regulatory Flexibility Act (5 U.S.C. 601 et seq.). Because this action authorizes pre-existing requirements under State law and does not impose any additional enforceable duty beyond that required by State law, it does not contain any unfunded Mandates Reform Act of 1995 (Public Law 104-4). For the same reason, this action also does not significantly or uniquely affect the communities of tribal governments, as specified by Executive Order 13084 (63 FR 27655, May 10, 1998). This action will not have substantial direct effects on States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks.

Under RCRA 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988(61 FR 4729, February 7, 1996), in issuing this rule, EPA has taken the necessary steps to eliminate drafting errors and ambiguity, minimize potential litigation, and provide a clear legal standard for affected conduct. The EPA has compiled with Executive Order 12630 (53 FR 8859, March 15, 1988) by examining the takings implications of the rule in accordance with the “Attorney Generals' Supplemental Guidelines for the Evaluation of Risk and Avoidance of Unanticipated Takings” issued under executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2).

List of Subjects in 40 CFR Part 271

Environmental protection, Administrative practice and procedure, Confidential business information, Hazardous materials transportation, Hazardous waste, Indian lands, Intergovernmental relations, Penalties, Reporting and recordkeeping requirements, Water pollution control, Water supply.

Authority

This notice is issued under the authority of sections 2002(a), 3006, and 7004(b) of the Solid Waste Disposal Act as amended, 42 U.S.C. 6912(a), 6926, 6974(b).

Dated: December 7, 2000.
Myron O. Knudson,
Acting Regional Administrator, Region 6.

[FR Doc. 00-33155 Filed 12-29-00; 8:45 am]

BILLING CODE 6560-50-P